ENVIRONMENTAL PROTECTION AGENCY

40 CFR Part 80

[EPA-HQ-OAR-2016-0544; FRL-9957-46-OAR]

Change the RFS Point of Obligation; Extension of Comment Period

AGENCY: Environmental Protection Agency (EPA).

ACTION: Extension of public comment period.

SUMMARY: On November 22, 2016, the U.S. Environmental Protection Agency (“EPA”) published a Notice of its proposed denial of several petitions requesting that EPA initiate a rulemaking process to reconsider or change its regulations that identify refiners and importers of gasoline and diesel fuel as the entities responsible for complying with the annual percentage standards adopted under the Renewable Fuel Standard (RFS) program. The Notice invited public comment on this proposal by January 23, 2017—60 days after publication of the Notice in the Federal Register. On December 13, 2016, the EPA received a request from the Small Retailers Coalition to extend the comment period by 30 days to allow its members to provide thorough comments and data. In light of the importance of this issue, the EPA is extending the deadline for written comments an additional 30 days to February 22, 2017.

DATES: Comments must be received on or before February 22, 2017.

ADDRESSES: Submit your comments on the EPA's proposed denial of the petitions referenced above, identified by Docket ID No. EPA-HQ-OAR-2016-0544, at http://www.regulations.gov. Follow the online instructions for submitting comments. Once submitted, comments cannot be edited or withdrawn from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Julia MacAllister, Office of Transportation and Air Quality, Assessment and Standards Division, Environmental Protection Agency, 2000 Traverwood Drive, Ann Arbor, MI 48105; telephone number: 734-214-4131; email address: macallister.julia@epa.gov.

SUPPLEMENTARY INFORMATION: The EPA proposal noted above was published on November 22, 2016, at 81 FR 83776. For the reasons noted above, the public comment period will now end on February 22, 2017.

Dated: December 20, 2016.
Christopher Grundler,
Director, Office of Transportation and Air Quality.

[FR Doc. 2016-31259 Filed 12-27-16; 8:45 am]

BILLING CODE 6560-50-P